INTERNATIONAL TRADE COMMISSION

[Investigation No. TA-421-5]

Uncovered Innerspring Units from China

Determination

On the basis of information developed in the subject investigation, the United States International Trade Commission determines, pursuant to section 421(b)(1) of the Trade Act of 1974,¹ that uncovered innerspring units ² from the People's Republic of China are not being imported into the United States in such increased quantities or under such conditions as to cause or threaten to cause market disruption to the domestic producers of like or directly competitive products.

¹ 19 U.S.C. 2451(b)(1).

² For purposes of this investigation, the product subject to this investigation is uncovered innerspring units composed of a series of individual metal springs wired together and fitted to an outer wire frame, suitable for use as the innerspring component in the manufacture of innerspring mattresses. Included within this definition are innersprings typically ranging from 34 inches to 76 inches in width and 71 inches to 84 inches in length, corresponding to the sizes of adult mattresses (twin, twin long, full, full long, queen, California king, and king) and units used in smaller constructions, such as crib and youth mattresses. The subject product is properly imported under statistical reporting number 9404.29.9010 of the Harmonized Tariff Schedule of the United States (HTS).

Not included in the scope of the petition are “pocket” coils, which are individual coils covered by a “pocket” or “sock” of a nonwoven synthetic material and then glued together in a linear fashion.

Background

Following receipt of a petition filed on January 6, 2004, on behalf of the American Innerspring Manufacturers (AIM),³ Memphis, TN, the Commission instituted investigation No. TA-421-5, Uncovered Innerspring Units From China, under section 421 of the Trade Act of 1974 to determine whether uncovered innerspring units from China are being imported into the United States in such increased quantities or under such conditions as to cause or threaten to cause market disruption to the domestic producers of like or directly competitive products.

³ Petitioning firms include Atlas Spring Manufacturing, Gardena, CA; Hickory Springs Manufacturing Co., Hickory, NC; Leggett & Platt, Carthage, MO; and Joseph Saval Spring & Wire Co., Inc., Taylor, MI.

Notice of the institution of the Commission's investigation and of the scheduling of a public hearing to be held in connection therewith was given by posting a copy of the notice on the Commission's Web site (http://www.usitc.gov) and by publishing the notice in the Federal Register (69 FR 2002, January 13, 2004). The hearing was held on February 19, 2004, in Washington, DC and all persons who requested the opportunity were permitted to appear in person or by counsel.

Issued: March 8, 2004.
By order of the Commission.
Marilyn R. Abbott,
Secretary to the Commission.

[FR Doc. 04-5630 Filed 3-11-04; 8:45 am]

BILLING CODE 7020-02-P